DEPARTMENT OF ENERGY

Federal Energy Regulatory Commission

[Project No. 4108-018]

City of St. Cloud; Notice Rejecting Application, Waiving Regulations, and Soliciting Applications

On December 1, 2022, the City of St. Cloud, licensee for the St. Cloud Hydroelectric Project No. 4108 (project), filed an application for a new license for the project pursuant to section 15(c)(1) of the Federal Power Act (FPA). The license application was untimely filed and is hereby rejected.¹

¹ The City of St. Cloud was issued a major license for the project on December 5, 1984, for a term of 40 years, effective the first day of the month in which the order was issued. See 29 FERC ¶ 62,233 (1984). Therefore, the license would expire on November 30, 2024, and the statutory deadline for filing a new license application was November 30, 2022. See FPA § 15(c)(1), 16 U.S.C. 808(c)(1). The Commission received the application via the internet at 6:42 p.m. Eastern Time, which is after regular business hours (i.e., after 5:00 p.m. Eastern Time), on November 30, 2022; therefore, the application is considered filed on the next regular business day, December 1, 2022. See 18 CFR 385.2001(a)(2) (2021).

The project is located on the Mississippi River approximately 75 miles northwest of St. Paul, Minnesota in the City of St. Cloud, Stearns and Sherburne Counties, Minnesota. The project consists of: (1) an approximately 3.5-mile-long, 294-surface-acre reservoir with a storage capacity of 2,254 acre-feet at a normal pool elevation of 981.0 feet National Geodetic Vertical Datum of 1929; (2) a 420-foot-long earthen embankment that abuts the east side of the dam; (3) a 550-foot-long, 19.5-foot-high concrete gravity dam and main spillway topped with inflatable crest gates; (4) a 50-foot-wide spillway containing two 20-foot-wide Tainter gates; (5) a 70-foot-wide, 122-foot-long reinforced concrete powerhouse containing two turbine-generator units with a total installed generating capacity of 8.64 megawatts and with an average annual generation of 51,500 megawatt-hours; (6) a 200-foot-long earthen embankment that abuts the west side of the dam; (7) an underground 180-foot-long, 5-kilovolt (kV) transmission line connecting the powerhouse to a step-up transformer; (8) a 5/34.5-kV step-up transformer; (9) an underground 900-foot-long, 34.5-kV transmission line connecting the step-up transformer to a non-project substation; and (10) appurtenant facilities.

As a result of the rejection of the City of St. Cloud's application and pursuant to section 16.25 of the Commission's regulations, the Commission is soliciting license applications from potential applicants. This solicitation is necessary because the deadline for filing an application for a new license and any competing license applications, pursuant to section 16.9 of the Commission's regulations, was November 30, 2022, and no other license applications for this project were filed. With this notice, we are waiving those parts of section 16.24(a) and 16.25(a) which bar an existing licensee that missed the two-year application filing deadline from filing another application. Further, because the City of St. Cloud completed the consultation requirements pursuant to Part 5 of the Integrated Licensing Process, we are waiving the consultation requirements in section 16.8 for the existing licensee. Consequently, the City of St. Cloud will be allowed to refile a license application and compete for the license and the incumbent preference established by the FPA section 15(a)(2) will apply.²

² See Pacific Gas and Electric Co., 98 FERC ¶ 61,032 (2002), reh'g denied, 99 FERC ¶ 61,045 (2002), aff'd, City of Fremont v. FERC, 336 F.3d 910 (9th Cir. 2003).

The licensee is required to make available certain information described in section 16.7 of the regulations. For more information from the licensee, please contact Ms. Tracy Hodel, Public Services Director, City of St. Cloud, 1201 7th Street South, St. Cloud, Minnesota 56301, (320) 255-7226.

Pursuant to Section 16.25(b), a potential applicant that files a notice of intent within 90 days from the date of this notice: (1) may apply for a license under Part I of the FPA and Part 4 (except section 4.38) of the Commission's Regulations within 18 months of the date on which it files its notice; and (2) must comply with sections 16.8 and 16.10 of the Commission's Regulations.

Questions concerning this notice should be directed to Nicholas Ettema, (312) 596-4447 or nicholas.ettema@ferc.gov.

Dated: December 9, 2022.
Kimberly D. Bose,
Secretary.

[FR Doc. 2022-27203 Filed 12-14-22; 8:45 am]

BILLING CODE 6717-01-P